DEPARTMENT OF COMMERCE

Foreign-Trade Zones Board

[Docket T-5-2007]

Foreign-Trade Zone 38 - Spartanburg County, SC, Application for Temporary/Interim Manufacturing Authority, Kittel Supplier USA, Inc., (Automotive Roof/Luggage Racks), Duncan, SC

An application has been submitted to the Executive Secretary of the Foreign-Trade Zones Board (the Board) by the South Carolina State Ports Authority, grantee of FTZ 38, requesting temporary/interim manufacturing (T/IM) authority within FTZ 38 at the Kittel Supplier USA, Inc. (KSU) facility in Duncan, South Carolina. The application was filed on October 26, 2007.

The KSU facility (25 employees) is located at 201 Commerce Court within the Highway 290 Commerce Park in Duncan (Site 3). Under T/IM procedures, KSU would assemble automotive roof/luggage racks (HTSUS 8708.29) for the U.S. market and export. Foreign components that would be used in the assembly activity (up to 100%% of total purchases) include: aluminum rails and support legs (8708.29), plastic support legs (8708.99), brackets (8708.29), fasteners (7318.15, 7318.19, 7318.29) and rubber seals (4016.93) (duty rates: free - 5.7%%).

FTZ procedures could exempt KSU from Customs duty payments on the foreign components used in production for export. On domestic shipments transferred in-bond to U.S. automobile assembly plants with subzone status, no duties would be paid on the foreign components within the roof/luggage racks until the finished vehicles are subsequently entered for consumption, at which time the finished automobile duty rate (2.5%%) could be applied to the foreign components. For the finished roof/luggage racks withdrawn directly by KSU for customs entry, the finished automotive part rate (2.5%%) could be applied to the foreign inputs noted above.

Public comment is invited from interested parties. Submissions (original and 3 copies) shall be addressed to the Board's Executive Secretary at the following address: Office of the Executive Secretary, Room 2111, U.S. Department of Commerce, 1401 Constitution Avenue, NW, Washington, DC 20230-0002. For further information, contact Pierre Duy at pierre_duy@ita.doc.gov, or (202) 482-1378. The closing period for receipt of comments is December 5, 2007.

A copy of the application will be available for public inspection at the Office of the Foreign-Trade Zones Board's Executive Secretary at the address listed above.

Dated: October 29, 2007.
Andrew McGilvray,
Executive Secretary.

[FR Doc. E7-21718 Filed 11-2-07; 8:45 am]

BILLING CODE 3510-DS-S